DEPARTMENT OF DEFENSE

Office of the Secretary

[Transmittal Nos. 12-69]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 12-69 with attached transmittal, policy justification, and Sensitivity of Technology.

Dated: December 26, 2012.
Aaron Siegel,
Alternate OSD Federal Register Liaison Officer, Department of Defense.

BILLING CODE 5001-06-P

BILLING CODE 5001-06-C

Transmittal No. 12-69

Notice of Proposed Issuance of Letter of Offer Pursuant to Section 36(b)(1) of the Arms Export Control Act, as amended

(i) Prospective Purchaser: Israel

(ii) Total Estimated Value:

Major Defense Equipment* | $466 million
Other | $181 million
Total | $647 million
* as defined in Section 47(6) of the Arms Export Control Act.

(iii) Description and Quantity or Quantities of Articles or Services under Consideration for Purchase: 6,900 Joint Direct Attack Munitions (JDAM) tail kits (which include 3,450 JDAM Anti-Jam KMU-556 (GBU-31) for MK-84 warheads; 1,725 KMU-557 (GBU-31) for BLU-109 warheads and 1,725 KMU-572 (GBU-38) for MK-82 warheads); 3,450 MK-84 2000 lb General Purpose Bombs; 1,725 MK-82 500 lb General Purpose Bombs; 1,725 BLU-109 Bombs; 3,450 GBU-39 Small Diameter Bombs; 11,500 FMU-139 Fuses; 11,500 FMU-143 Fuses; and 11,500 FMU-152 Fuses. Also included are spare and repair parts, support equipment, personnel training and training equipment, publications and technical documentation, U.S. Government and contractor engineering and technical support, and other related elements of program support.

(iv) Military Department: Air Force (YAP)

(v) Prior Related Cases, if any:

FMS case YEQ-$34 million-9Feb00

FMS case YET-$22 million-9Sep02

FMS case YEV-$18.5 million-16Jul04

FMS case YEX-$18.5 million-14Jul04

FMS case AMD-$3.1 million-6Jul06

FMS case AMF-$4.4 million-18Jul06

FMS case AMG-$44.4 million-18Jul06

FMS case AMH-$3 million-25Jul06

FMS case AMI-$12 million-23Jul06

FMS case AMJ-$17.8 million-25Jul06

FMS case AMK-$5.5 million-25Jul06

FMS case AML-$4.6 million-5Oct06

FMS case AMM-$6 million-8Jul06

FMS case AMN-$59.6 million-5Oct06

FMS case AMP-$10.3 million-31Aug06

FMS case AMQ-$26.2 million-5Oct06

FMS case AMR-$0.5 million-15Sep06

FMS case AMS-$13.7 million-5Mar07

FMS case AMV-$25.4 million-20Jun07

FMS case QDQ-$0.8 million-21Jul06

(vi) Sales Commission, Fee, etc., Paid, Offered, or Agreed to be Paid: None

(vii) Sensitivity of Technology Contained in the Defense Article or Defense Services Proposed to be Sold: See Attached Annex.

(viii) Date Report Delivered to Congress: 14 Dec 2012

POLICY JUSTIFICATION

Israel—Munitions

The Government of Israel has requested a possible sale of 6,900 Joint Direct Attack Munitions (JDAM) tail kits (which include 3,450 JDAM Anti-Jam KMU-556 (GBU-31) for MK-84 warheads; 1,725 KMU-557 (GBU-31) for BLU-109 warheads and 1,725 KMU-572 (GBU-38) for MK-82 warheads); 3,450 MK-84 2000 lb General Purpose Bombs; 1,725 MK-82 500 lb General Purpose Bombs; 1,725 BLU-109 Bombs; 3,450 GBU-39 Small Diameter Bombs; 11,500 FMU-139 Fuses; 11,500 FMU-143 Fuses; and 11,500 FMU-152 Fuses. Also included are spare and repair parts, support equipment, personnel training and training equipment, publications and technical documentation, U.S. Government and contractor engineering and technical support, and other related elements of program support.

The estimated cost is $647 million.

The United States is committed to the security of Israel, and it is vital to U.S. national interests to assist Israel to develop and maintain a strong and ready self-defense capability. This proposed sale is consistent with those objectives.

The proposed sale of munitions will enable Israel to maintain operational capability of its existing systems. Israel, which already has these munitions in its inventory, will have no difficulty absorbing these additional munitions into its armed forces.

The proposed sale of munitions will not alter the basic military balance in the region.

The principal contractors will be The Boeing Company in St. Charles, Missouri; KDI Precision Products in Cincinnati, Ohio; ATK (Alliant Tech Systems, Inc.) in Edina, Minnesota; Kaman Dayron in Orlando, Florida; General Dynamics in Garland, Texas; and Elwood National Forge Co. in Irvine, Pennsylvania. There are no known offset agreements proposed in connection with this potential sale.

Implementation of this proposed sale will not require the assignment of any additional U.S. Government or contractor representatives to Israel.

There will be no adverse impact on U.S. defense readiness as a result of this proposed sale.

Transmittal No. 12-69

Notice of Proposed Issuance of Letter of Offer Pursuant to Section 36(b)(1) of the Arms Export Control Act, as amended

Annex

Item No. vii

(vii) Sensitivity of Technology

1. The Joint Direct Attack Munition is a weapon guidance kit that converts existing unguided free-fall bombs into precision-guided “smart” munitions. By adding a new tail section containing Inertial Navigation System (INS) guidance/Global Positioning System (GPS) guidance to unguided bombs, the cost effective JDAM provides precise weapon delivery in any weather, given an accurate set of coordinates The INS, using updates from the GPS, helps guide the bomb to the target via the use of movable tail fins. Weapon accuracy is dependent on the quality of target coordinates and present position as entered into the guidance control unit. After weapon release, movable tail fins guide the weapon to the target coordinates. In addition to the tail kit, other elements in the overall system that are essential for successful employment include:

Access to accurate target coordinates

INS/GPS capability

Operational Test and Evaluation Plan

2. The Guided Bomb Unit-39 (GBU-39) Small Diameter Bomb (SDB) is a 250-lb precision guided munition that is intended to provide aircraft with the potential to simultaneously strike an increased number of targets per sortie. Aircraft are able to carry four SDBs in place of one 2,000-lb bomb. The GBU-39 is a conventional munition that is currently integrated in the F-15 air-to-ground platform. The SDB is equipped with a GPS-aided inertial navigation system to attack fixed/stationary targets such as fuel depots and bunkers.

3. If a technologically advanced adversary were to obtain knowledge of specific hardware, the information could be used to develop countermeasures which might reduce weapons system effectiveness or be used in the development of a system with similar or advanced capabilities.

[FR Doc. 2012-31429 Filed 12-28-12; 8:45 am]

BILLING CODE 5001-06-P